DEPARTMENT OF THE INTERIOR

Office of the Secretary

[DOI-2021-0009]

Advancing Racial Equity and Support for Underserved Communities Through Procurement and Contracting Opportunities

AGENCY: Office of the Secretary, Interior.

ACTION: Notice of listening session and request for public comments.

SUMMARY: As part of its implementation of an Executive order, Advancing Racial Equity and Support for Underserved Communities Through the Federal Government, the Department of the Interior (DOI) is conducting five virtual listening sessions and inviting public comments to obtain stakeholder input on barriers that underserved communities and individuals may face in taking advantage of DOI procurement and contracting opportunities.

DATES: DOI will hold five virtual listening sessions on the following dates:

—October 19, 2021 from 1:00 p.m.-3:00 p.m. ET

—October 20, 2021 from 5:00 p.m.-7:00 p.m. ET

—October 21, 2021 from 5:00 p.m.-7:00 p.m. ET

—October 25, 2021 from 8:00 p.m.-10:00 p.m. ET

—October 26, 2021 from 1:00 p.m.-3:00 p.m. ET

Interested persons are invited to submit comments on or before November 18, 2021.

ADDRESSES: We invite you to submit comments on this notice. You may submit comments online at https://www.regulations.gov by entering “DOI-2021-0009” in the Search bar and clicking “Search” or by mail to U.S. Department of the Interior, Office of Policy Analysis—Mailstop 3530, ATTN: E.O. 13985 Contracting Comments, 1849 C Street NW, Washington, DC 20240. You may respond to some or all of the questions listed in the “Supplementary Information—Questions” section of this document. All public comments received are subject to the Freedom of Information Act and will be posted in their entirety at https://www.regulations.gov, including any personal or business confidential information provided. Do not include any information you would not like to be made publicly available.

If you plan to attend one of the virtual listening sessions and need assistance in a language other than English or if you are a person with disabilities who needs a reasonable accommodation, please contact DEIA@ios.doi.gov.

FOR FURTHER INFORMATION CONTACT: Kim Oliver, D&I Strategist, Office of Diversity, Inclusion, and Civil Rights, DEIA@ios.doi.gov. 202-208-7301.

SUPPLEMENTARY INFORMATION:

Background

On January 20, 2021, President Joseph R. Biden issued Executive Order 13985 on Advancing Racial Equity and Support for Underserved Communities through the Federal Government. In response to Executive Order 13985, DOI is consulting with members of communities who have been historically underrepresented in the Federal Government and underserved by, or subject to discrimination, in Federal policies and programs. The term “underserved communities” refers to populations sharing a particular characteristic, as well as geographic communities, that have been systematically denied a full opportunity to participate in aspects of economic, social, and civic life, such as Black, Latino, and Indigenous and Native American persons, Asian Americans and Pacific Islanders and other persons of color; members of religious minorities; lesbian, gay, bisexual, transgender, questioning/queer and related identities (LGBTQ+) persons; persons with disabilities; persons who live in rural areas; and persons otherwise adversely affected by persistent poverty or inequality. In addition to identifying barriers, DOI seeks recommendations on how to update processes, policies, regulations, and guidance to address inequities in DOI procurement and contracting opportunities. While all members of the public are invited to submit comments, the target audience for listening sessions is members of the underserved communities identified in Executive Order 13985, which includes:

• Black, Latino, and Indigenous and Native American persons, Asian Americans and Pacific Islanders and other persons of color;

• LGBTQ+ persons;

• Persons with disabilities;

• Persons who live in rural areas; and

• Persons otherwise adversely affected by persistent poverty or inequality.

Questions

The Department of the Interior is generally interested in input on the following questions, where applicable:

1. Have you applied for or accessed procurement and contracting opportunities with DOI in the past? If so, please describe what you liked and did not like about the process. If not, why not? What would have made it easier for you to apply or access procurement and contracting opportunities with DOI?

2. What are the barriers to applying for procurement and contracting opportunities with DOI? How can DOI remove or reduce barriers (e.g., update policies, practices, or programs) that underserved communities and individuals face when they participate or attempt to participate in agency procurement and contracting opportunities?

3. How can DOI establish and maintain connections to a wider and more diverse set of stakeholders representing underserved communities? How can DOI better share information with underserved stakeholders about procurement and contracting opportunities? What are the best ways to notify and engage underserved stakeholders about new opportunities?

4. What have been your experience(s) interacting with DOI when trying to access procurement and contracting opportunities using the following tools/mechanisms:

○ One-on-one interactions with DOI staff, offices, programs, and/or leadership in person, by email or phone

○ DOI websites, including Bureau web pages and the Office of Small and Disadvantaged Business Utilization's web page

○ DOI-hosted industry days and/or matching-making event(s)

○ DOI Forecast of Contracting Opportunities

Consider how you became aware of the tool/mechanism, if the tool/mechanism was helpful, if you were able to obtain useful and/or relevant information, what could be improved upon, if you would use or have used the tool/mechanism again, and other tools/mechanisms you have utilized or would like to have available to utilize to support your efforts.

5. Are there sources of data and metrics that DOI should use to evaluate the effects of DOI procurement and contracting policies or regulations on underserved communities? If so, please identify or describe them.

Comments received in response to this notice and from listening sessions will be evaluated and, as appropriate, incorporated into DOI's efforts to improve support to underserved communities through procurement and contracting opportunities.

Listening Session Registration Information

Advanced registration for individuals and groups is strongly encouraged. For additional information about the listening sessions and to register for a listening session, please visit https://www.doi.gov/ppa/equity/13985. Details for the sessions will be posted to the website and additional information will be emailed to registered participants in advance of the sessions.

Eric Werwa,
Acting Principal Deputy Assistant Secretary—Policy, Management and Budget.

[FR Doc. 2021-22767 Filed 10-15-21; 11:15 am]

BILLING CODE 4334-63-P